NUCLEAR REGULATORY COMMISSION

[Docket No. 52-006]

Westinghouse Electric Company; Acceptance for Docketing of a Design Certification Rule Amendment Request for the AP1000 Design

By letter dated May 26, 2007, as supplemented by letters dated October 26, November 2, December 12, 2007, January 11, and January 14, 2008, Westinghouse Electric Company, Pittsburgh, Pennsylvania, submitted an amendment request to the U.S. Nuclear Regulatory Commission (NRC) to revise AP1000 Design Certification (DC) Rule, filed pursuant to Section 103 of the Atomic Energy Act and Subpart B, “Standard Design Certifications,” of Title 10 of the Code of Federal Regulations (10 CFR), part 52, “License Certifications and Approvals for Nuclear Power Plants.” The reactor design proposed for amendment in the request is the AP1000 design, Revision 15, as referenced in 10 CFR 52, Appendix D, “Design Certification Rule for the AP1000 Design.”

The NRC staff has determined that Westinghouse has submitted sufficient information in accordance with 10 CFR part 2, “Rules of Practice for Domestic Licensing Proceedings and Issuance of Orders,” and 10 CFR part 52 such that it is acceptable for docketing. The docket number established for this review is 52-006. Docketing of the amendment request does not preclude the NRC from requesting additional information from the applicant as the review proceeds, nor does it predict whether the Commission will grant or deny the amendment request.

Finally, the Commission will announce in a future Federal Register notice the opportunity to comment on the proposed rulemaking.

Documents may be examined, and/or copied for a fee, at the NRC's Public Document Room (PDR), located at One White Flint North, Public File Area O-1F21, 11555 Rockville Pike (first floor), Rockville, Maryland 20852, and will be accessible electronically through the Agencywide Documents Access System (ADAMS) Public Electronic Reading Room link at the NRC Web site http://www.nrc.gov/reading-rm/adams.html. The application is also available at http://www.nrc.gov/reactors/new-licensing/col.html. Persons who do not have access to ADAMS, or who encounter problems in accessing documents located in ADAMS should contact the NRC PDR Reference staff by telephone at 1-800-397-4209, 301-415-4737, or by e-mail to pdr@nrc.gov.

Dated at Rockville, Maryland, this 18th day of January 2008.
For the Nuclear Regulatory Commission.
David B. Matthews,
Director, Division of New Reactor Licensing, Office of New Reactors.

[FR Doc. E8-1393 Filed 1-25-08; 8:45 am]

BILLING CODE 7590-01-P